NATIONAL SCIENCE FOUNDATION (NSF)

Sunshine Act Meetings; National Science Board

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

TIME AND DATE: Tuesday, February 12, 2019 from 8:00 a.m. to 5:15 p.m. EST.

PLACE: These meetings will be held at the NSF headquarters, 2415 Eisenhower Avenue, Alexandria, VA 22314. Meetings are held in the boardroom on the 2nd Floor. The public may observe public meetings held in the boardroom. All visitors must contact the Board Office (call 703-292-7000 or send an email to nationalsciencebrd@nsf.gov) at least 24 hours prior to the meeting and provide your name and organizational affiliation. Visitors must report to the NSF visitor's desk in the building lobby to receive a visitor's badge.

STATUS: Some of these meetings will be open to the public. Others will be closed to the public. See full description below.

MATTERS TO BE CONSIDERED:

Tuesday, February 12, 2019

Plenary Board Meeting

Open session: 8:00-9:30 a.m.

• NSB Chair's Opening Remarks

• NSB Vision Presentation

○ Dr. Vinton Cerf

○ Dr. Anita Jones

○ Dr. Barry Barish

• NSF Director's Remarks

• Summary of Activities

Committee on Awards and Facilities (A&F)

Closed Session: 9:30 a.m.-12:00 noon

• Committee Chair's Opening Remarks

• Approval of Prior Minutes

• Action Item: Antarctic Infrastructure Modernization for Science (AIMS)

• Action Item: International Ocean Discovery Program (IODP)

• Update on Cornell High Energy Synchrotron Source

• Context Item: Green Bank Observatory

• Update on National Ecological Observatory Network

Plenary Board

Open Session: 1:00-2:00 p.m.

• Chair's Opening Remarks and Introductions

○ Mr. Chris Liddell, White House Deputy Chief of Staff for Policy Coordination

Plenary Board

Closed Session: 2:00-3:15 p.m.

• Chair's Opening Remarks

• Director's Remarks

○ Impact of Lapse in Appropriations

• Approval of Prior Minutes

• Closed Committee Reports

• Vote: International Ocean Discovery Program Operations and Maintenance

• Vote: Antarctic Infrastructure Modernization for Science

Plenary Board (Executive)

Closed Session: 3:15-3:30 p.m.

• Chair's Opening Remarks

• Approval of Prior Minutes

• Director's Remarks

○ Senior Personnel Update

○ Waterman Award Update

Committee on Strategy (CS)

Closed Session: 3:45-4:30 p.m.

• Committee Chair's Opening Remarks

• Approval of Prior Minutes

• FY 2019 and 2020 Budget Updates and FY 2020 Passback

Plenary Board

Open Session: 4:30-5:15 p.m.

• Chair's Opening Remarks

○ New Member Swearing-in

• Director's Remarks

○ Senior Executive Updates

○ Office of Legislative and Public Affairs Update

• Approval of Prior Minutes

• Committee Chair Updates

○ Science and Engineering Indicators Update

○ Merit Review Report Update

○ Awards & Facilities Retreat Update

○ NSB One-Pager on Foreign Born Students and Workers in the U.S. S&E Enterprise

○ Committee on Strategy Update

○ Skilled Technical Workforce Update

• Vote: OIG Semiannual Report and Management Response

• Chair's Closing Remarks

Meeting Adjourns: 5:15 p.m.

MEETINGS THAT ARE OPEN TO THE PUBLIC:

Wednesday, November 28, 2018

8:00-9:30 a.m. Plenary NSB

1:00-2:00 p.m. Plenary

4:30-5:15 p.m. Plenary

MEETINGS THAT ARE CLOSED TO THE PUBLIC:

Wednesday, November 28, 2018

9:30 a.m.-12:00 noon (A&F)

2:00-3:15 p.m. Plenary

3:15-3:30 p.m. Plenary Executive

3:45-4:30 p.m. (CS)

CONTACT PERSONS FOR MORE INFORMATION: The NSB Office contact is Brad Gutierrez, bgutierr@nsf.gov, 703-292-7000. The NSB Public Affairs contact is Nadine Lymn, nlymn@nsf.gov, 703-292-2490.

SUPPLEMENTAL INFORMATION: Public meetings and public portions of meetings held in the 2nd Floor boardroom will be webcast. To view these meetings, go to: http://www.tvworldwide.com/events/nsf/190212/ follow the instructions. The public may observe public meetings held in the boardroom. The address is 2415 Eisenhower Avenue, Alexandria, VA 22314.

Please refer to the NSB website for additional information. You will find any updated meeting information and schedule updates (time, place, subject matter, or status of meeting) at https://www.nsf.gov/nsb/meetings/notices.jsp#sunshine.

The NSB provides some flexibility around meeting times. After the first meeting of each day, actual meeting start and end times will be allowed to vary by no more than 15 minutes in either direction. As an example, if a 10:00 meeting finishes at 10:45, the meeting scheduled to begin at 11:00 may begin at 10:45 instead. Similarly, the 10:00 meeting may be allowed to run over by as much as 15 minutes if the Chair decides the extra time is warranted. The next meeting would start no later than 11:15. Arrive at the NSB boardroom or check the webcast 15 minutes before the scheduled start time of the meeting you wish to observe.

Chris Blair,
Executive Assistant to the National Science Board Office.

[FR Doc. 2019-01762 Filed 2-6-19; 11:15 am]

BILLING CODE 7555-01-P